OFFICE OF PERSONNEL MANAGEMENT

Federal Salary Council; Meeting Notice

AGENCY: Office of Personnel Management.

ACTION: Notice of meeting.

SUMMARY: The Federal Salary Council will meet on Friday, November 6, 2015, at the time and location shown below. The Council is an advisory body composed of representatives of Federal employee organizations and experts in the fields of labor relations and pay policy. The Council makes recommendations to the President's Pay Agent (the Secretary of Labor and the Directors of the Office of Management and Budget and the Office of Personnel Management) about the locality pay program for General Schedule employees under section 5304 of title 5, United States Code. The Council's recommendations cover the establishment or modification of locality pay areas, the coverage of salary surveys, the process of comparing Federal and non-Federal rates of pay, and the level of comparability payments that should be paid.

The Council will hear public testimony about the locality pay program, review the results of pay comparisons, and formulate its recommendations to the President's Pay Agent on pay comparison methods, locality pay rates, and locality pay areas and boundaries for 2017. The meeting is open to the public. Please contact the Office of Personnel Management at the address shown below if you wish to submit testimony or present material to the Council at the meeting.

DATES: Friday, November 6, 2015, at 10:00 a.m.

ADDRESSES: Office of Personnel Management, 1900 E Street NW., Pendleton Room 5th Floor, Washington, DC 20415.

FOR FURTHER INFORMATION CONTACT: Brenda L. Roberts, Deputy Associate Director, Pay and Leave, Office of Personnel Management, 1900 E Street NW., Room 7H31, Washington, DC 20415-8200. Phone (202) 606-2838; FAX (202) 606-0824; or email at pay-leave-policy@opm.gov.

For the President's Pay Agent.
Beth F. Cobert,
Acting Director.

[FR Doc. 2015-24416 Filed 9-24-15; 8:45 am]

BILLING CODE 6325-39-P